DEPARTMENT OF THE INTERIOR

National Park Service

Notice of Inventory Completion for Native American Human Remains and Associated Funerary Objects from Scott and Dubuque Counties, IA, and Rock Island County, IL, in the Possession of the Office of the State Archaeologist, University of Iowa, Iowa City, IA

AGENCY: National Park Service, Interior.

ACTION: Notice.

Notice is hereby given in accordance with provisions of the Native American Graves Protection and Repatriation Act (NAGPRA), 43 CFR 10.9, of the completion of an inventory of human remains and associated funerary objects in the possession of the Office of State Archaeologist, University of Iowa, Iowa City, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Office of State Archaeologist, University of Iowa, professional staff in consultation with representatives of the Sac and Fox Tribe of the Mississippi in Iowa, Sac and Fox Nation of Missouri in Kansas and Nebraska, and the Sac and Fox Nation of Oklahoma.

In 1877, human remains representing one individual were excavated from site 13ST82, Scott County, Iowa, by Rev. J. Gass and other members of the Davenport Academy of Natural Sciences. The museum associated with this group is now known as the Putnam Museum, Davenport, IA. In 1993, the human remains were transferred to the Office of the State Archaeologist Burials Program. No known individuals were identified. There are no associated funerary objects.

The Putnam Museum card catalog information identified the remains as coming from the upper levels of a Woodland-period mound and that this intrusive burial was associated with “European artifacts.” Descriptions of the excavations published in the Proceedings of the Davenport Academy of Natural Sciences describe this as a 19th century burial with “a fire steel, a common clay pipe, a number of shell and glass beads, and a silver ear ring” associated with the remains. Based on historical maps, written historical accounts, archaeological evidence, and tribal history, the Sac and Fox (Meskwaki) are known to have had villages in this vicinity during the late 1700's and early 1800's. The artifacts described as found with the remains are consistent with those associated with the Sac and Fox (Meskwaki). The current location of the artifacts is unknown.

In the late 1800's or early 1900's, human remains representing two individuals were excavated from graves at the Mines of Spain, Dubuque, Dubuque County, IA, by Richard Herrmann, a local collector. Mr. Herrmann donated the remains to the Ham House Museum, owned by the Dubuque County Historical Society, Dubuque, IA. In 1986, the remains were transferred to the Office of State Archaeologist Burials Program. No known individuals were identified. There are no associated funerary objects.

Mr. Herrmann's notes indicated that these two individuals were from graves located on a bluff in what is now known as the Mines of Spain, Dubuque, IA. Mr. Herrmann participated in the removal and reburial of the remains of what were purported to be Julien Dubuque (Hodges 1994), and he collected the remains of a woman from a grave outside of the presumed grave of Mr. Dubuque and Chief Peosta. Mr. Herrmann identified the woman as “Potosa,” also known as Ms. Potosi, the purported wife of Mr. Dubuque. Historical records do not provide any information on Ms. Potosi, and it is not known when she died, how old she was when she died, the cause of her death, or even if the remains in this collection are those of “Potosa.” The remains of a second individual were taken from a grave 60 feet west of the purported Dubuque/Peosta grave. A tag written by Mr. Herrmann identifies these remains as “Kettle Chief.” Given that none of the graves was marked, that they were excavated at least 75 to 100 years after the deaths of the named individuals, and the stated rationale for Mr. Herrmann's purported identification is suspect, the remains of these individuals cannot be identified with certainty. Physical anthropological evidence indicates that these two individuals are Native American. Historical maps, written historical accounts, archeological evidence, and tribal history demonstrate that the Meskwaki had a village at this location in the late 1700's and early 1800's and that Julien Dubuque lived and died in the area while mining lead on his large land grant named Mines of Spain.

At an unknown date, human remains representing two individuals were removed by Bud Hansen, a local collector, reportedly from the Saukenauk site (11RI29), Rock Island, Rock Island County, IL. In 1987, the remains were transferred to the Office of State Archaeologist Burial Program from a private collection. Saukenauk was an important Sac and Meskwaki village between 1764 and 1830, which has been documented by oral historical, archival, and anthropological evidence. No known individuals were identified. There are no associated funerary objects.

Based on the above-mentioned information, officials of the Office of the State Archaeologist, University of Iowa, have determined that, pursuant to 43 CFR 10.2 (d)(1), the human remains listed above represent the physical remains of five individuals of Native American ancestry. Also, officials of the Office of the State Archaeologist, University of Iowa, have determined that, pursuant to 43 CFR 10.2 (e), there is a relationship of shared group identity that can be reasonably traced between these Native American human remains and the Sac and Fox Tribe of the Mississippi in Iowa, Sac and Fox Nation of Missouri in Kansas and Nebraska, and the Sac and Fox Nation of Oklahoma.

This notice has been sent to officials of the Sac and Fox Tribe of the Mississippi in Iowa, Sac and Fox Nation of Missouri in Kansas and Nebraska, and the Sac and Fox Nation of Oklahoma. Representatives of any other Indian tribe that believes itself to be culturally affiliated with these human remains should contact Shirley Schermer, Burials Program Director, Office of the State Archaeologist, Eastlawn, University of Iowa, Iowa City, IA 52242, telephone (319) 384-0732, before October 12, 2000. Repatriation of the human remains to the Sac and Fox Tribe of the Mississippi in Iowa, Sac and Fox Nation of Missouri in Kansas and Nebraska, and the Sac and Fox Nation of Oklahoma may begin after that date if no additional claimants come forward.

Dated: August 23, 2000.
John Robbins,
Assistant Director, Cultural Resources Stewardship and Partnerships

[FR Doc. 00-23384 Filed 9-11-00; 8:45 am]

BILLING CODE 4310-70-F